Title 3—

The President

Notice of May 7, 2008

Continuation of the National Emergency Blocking Property of Certain Persons and Prohibiting the Export of Certain Goods to Syria

On May 11, 2004, pursuant to my authority under the International Emergency Economic Powers Act (50 U.S.C. 1701-1706) and the Syria Accountability and Lebanese Sovereignty Restoration Act of 2003 (Public Law 108-175), I issued Executive Order 13338, in which I declared a national emergency with respect to the actions of the Government of Syria. To deal with this national emergency, Executive Order 13338 authorized the blocking of property of certain persons and prohibited the exportation or re-exportation of certain goods to Syria. On April 25, 2006, and February 13, 2008, I issued Executive Order 13399 and Executive Order 13460, respectively, to take additional steps with respect to this national emergency.

I took these actions to deal with the unusual and extraordinary threat to the national security, foreign policy, and economy of the United States constituted by the actions of the Government of Syria in supporting terrorism, maintaining its then-existing occupation of Lebanon, pursuing weapons of mass destruction and missile programs including the recent revelation of illicit nuclear cooperation with North Korea, and undermining U.S. and international efforts with respect to the stabilization and reconstruction of Iraq.

Because the actions and policies of the Government of Syria continue to pose an unusual and extraordinary threat to the national security, foreign policy, and economy of the United States, the national emergency declared on May 11, 2004, and the measures adopted on that date and on April 25, 2006, in Executive Order 13399, and on February 13, 2008, in Executive Order 13460, to deal with that emergency, must continue in effect beyond May 11, 2008. Therefore, in accordance with section 202(d) of the National Emergencies Act (50 U.S.C. 1622(d)), I am continuing for 1 year the national emergency authorizing the blocking of property of certain persons and prohibiting the exportation or re-exportation of certain goods to Syria.

This notice shall be published in the Federal Register and transmitted to the Congress.

THE WHITE HOUSE,

May 7, 2008.

[FR Doc. 08-1248

Filed 5-8-08; 9:26 am]

Billing code 3195-01-P